DEPARTMENT OF TRANSPORTATION

National Highway Traffic Safety Administration

49 CFR Part 571

[Docket No. NHTSA-2001-10359]

Request for Comments To Obtain the Views of the Public on the Use and Effectiveness of Booster Seats

AGENCY: National Highway Traffic Safety Administration (NHTSA), DOT.

ACTION: Request for Comments.

SUMMARY: This document requests comments from all interested parties on the use and effectiveness of belt positioning boosters (hereafter noted as “booster(s)”), taking into account the advantages and disadvantages of belt positioning boosters with adult lap/shoulder belts versus adult lap and shoulder belts alone.

It responds to Section 14(h) of the Transportation Recall Enhancement, Accountability, and Documentation (TREAD) Act, which mandates that the Secretary of Transportation initiate and complete a study, taking into account the views of the public, on the use and effectiveness of automobile booster seats for children, compiling information on the advantages and disadvantages of using booster seats and determining the benefits, if any, to children from the use of boosters with lap and shoulder belts compared to children using lap and shoulder belts alone, and submit a report on the results of that study to the Congress by November 1, 2001.

We anticipate that your comments will provide valuable insight as to the public views and perception of booster seats, specifically belt positioning booster seats.

DATES: Written Comments: Written comments must be submitted for public viewing and received at Docket Management at the address below no later than September 17, 2001.

ADDRESSES: Written Comments: Submit written comments to the DOT Docket Management System, U.S. Department of Transportation, PL 401, 400 Seventh Street, SW, Washington, DC 20590-0001. Comments should refer to the Docket Number (NHTSA-2001-10359) and be submitted in two copies. If you wish to receive confirmation of receipt of your written comments, please include a self-addressed, stamped postcard.

Comments may also be submitted to the Docket electronically by logging onto the DOT Docket Management System Web site at http://dms.dot.gov. Click on “Help & Information” to obtain instructions for filing comments electronically. In every case, the comments should refer to the Docket Number.

Claim of Confidentiality for Written Comments: See below, How Do I Submit Confidential Business Information?

FOR FURTHER INFORMATION CONTACT: Linda McCray, Office of Vehicle Safety Research, NRD-11, NHTSA, 400 Seventh Street, SW, Washington, DC 20590 (telephone 202-366-6375, Fax: 202-366-7237, E-mail Linda.McCray@nhtsa.dot.gov).

SUPPLEMENTARY INFORMATION: This document requests comments from all interested parties on the use and effectiveness of belt positioning boosters (hereafter noted as “booster(s)”), taking into account the advantages and disadvantages of belt positioning boosters with adult lap/shoulder belts versus adult lap and shoulder belts alone.

On November 1, 2000, the Transportation Recall Enhancement, Accountability, and Documentation (TREAD) Act, Public Law 106-414 (114 Stat. 1800), was enacted which contains provisions on improving the performance of child restraints. In Section 14(h), Improving the Safety of Child Restraints—Booster Seat Study, the TREAD Act mandates that the Secretary of Transportation initiate and complete a study, taking into account the views of the public, on use and effectiveness of automobile booster seats for children, compiling information on the advantages and disadvantages of using booster seats and determining the benefits, if any, to children from use of boosters with lap and shoulder belts compared to children using lap and shoulder belts alone, and submit a report on the results of that study to the Congress by November 1, 2001. We anticipate that your comments will provide some insight as to the public views and perception of booster seats, specifically belt positioning booster seats.

Traffic crashes are the leading cause of death to children of every age from 5 to 16 years old. Six of 10 children who die in passenger motor vehicle crashes are either not restrained at all or are improperly restrained. In addition, children are being moved into adult safety belts too soon. A child is presumed ready to graduate from a booster seat to an adult lap/shoulder belt when the child can firmly place his/her back against the vehicle seat back cushion with his/her knees naturally bent over the front of the vehicle pad with feet firmly placed on the vehicle floor. This typically occurs when a child is about 4 feet 9 inches tall. For children from 4- to 8-years old, belt positioning booster seats, properly used, can help prevent injury by improving the fit of adult-sized safety belts fit. Unfortunately, few children who could benefit from booster seats actually use them. Most studies indicate that booster seat usage rates are below 10 percent. Survey data show that the other children either use safety belts alone or ride totally unrestrained.

In 1998, NHTSA included questions about booster seat use in a telephone survey of a randomly selected national sample of about 4,000 persons age 16 and older. A subgroup of 754 parents or caregivers of children under the age of 6, were asked if they were aware of booster seats. While 76 percent of these participants said they were aware of booster seats, 21 percent said they were unaware of them, and 3 percent were unsure. Of those who were aware of booster seats, 53 percent said they had used them at some time for their children.

The survey confirmed that children who should be in booster seats often use safety belts alone instead. While most participants thought children in rear-facing seats were expected to move on to other safety seats, 14 percent expected their older children to use safety belts. Slightly more than half (55 percent) of the parents whose children used child safety seats said that when their children outgrew a child seat they would use a different seat or booster seat while 43 percent answered either that the children would graduate to safety belts alone or that they did not know how they would be restrained.

In spite of the documented effectiveness of safety seats, many families still do not use them. Although there are child safety seat usage laws in every State and the District of Columbia, most laws do not apply to booster seat use. The usage rate is very low for booster seats by children who have outgrown their convertible forward-facing child safety seats but who do not yet fit adult belts.

NHTSA is proud of its role as a national leader in promoting child passenger safety. During the past several years, government, industry, advocates, etc., have pursued various methods to best address the issue of proper restraint use for older children—including those that have outgrown the convertible/forward-facing child safety seat. In 1998, the Blue Ribbon Panel II: Protecting Our Older Child Passengers convened to develop better methods to protect children ages 4 through 15 years old. In 1999, to address the issue of nonuse of booster seats, NHTSA awarded grants totaling $800,000 to six States and communities for pilot and demonstration programs to be developed which could be duplicated nationally to increase booster seat usage for children ages 4 to 8 years and to promote safety belt use among older children. Final reports from these programs are due at the end of 2001. NHTSA will continue to provide funding to State and local agencies to promote the use of booster seats and safety belts by older children and will develop “best practices” strategies and educational materials. In February 2000, based on Blue Ribbon Panel II recommendations (see http://www.actsinc.org/whatsnew_6.html), NHTSA launched the Don't Skip a Step national booster seat campaign to educate parents about the risks of improperly positioned adult safety belts and the effectiveness of belt-positioning booster seats for children ages 4 to 8 years. The agency later introduced 4 Steps for Kids, a campaign to promote the use of booster seats for children who have outgrown convertible/forward-facing child safety seats. On December 7, 2000, The National Transportation Safety Board (NTSB) held a meeting/hearing on the availability and cost of lap-belt-only booster seats. These types of booster seats can be used in vehicle rear seats that are only equipped with a lap belt.

In April 2001, the American Association for Automotive Medicine (AAAM) sponsored an international conference, Booster Seats for Children: Closing the Gap Between Science and Public Policy, of leading child passenger safety experts in medicine, engineering, public policy, research and enforcement. A major goal of that conference was to develop scientifically based recommendations that would lead to public policies, including regulation and legislation, on booster seats and that would guide future research in child occupant restraint systems. The recommendations can be found at www.carcrash.org/recs.html.

NHTSA also has been a close partner in the development and refinement of the “Boost America!” program sponsored by Ford Motor Company. This $30 million program, launched on April 30, 2001, will give away a million booster seats during the program's first 12 months, and award $1 million in grants to local organizations to support grassroots booster seat advocacy and distribution efforts. In addition, the program will distribute preschool and elementary school educational materials promoting booster seat use. The Agency plans to continue working with retailers, child safety seat and vehicle manufacturers to raise consumer awareness of booster seats. In addition, the Agency has sought public input to identify potentially effective interventions to address the problem of prematurely moving children from safety seats to adult safety belts. As required by Section 14(h) of the TREAD Act, NHTSA will develop, by November 2001, a 5-year strategic plan to reduce deaths and injuries caused by failure to use the appropriate booster seat in the 4- to 8-years old age group by 25 percent. A Federal Register Notice (66 FR 30366) related to that initiative, Docket Number NHTSA-01-9785, was published on June 6, 2001, to announce a public meeting (held on July 10, 2001) and request comments to facilitate the development of the plan. The intent of the meeting was to provide the sharing of viewpoints, information, and ideas on booster seat usage. Among those in attendance were the general public, industry, government, and advocacy groups. Topics discussed included, but were not limited to, educational programs, program effectiveness and evaluation, target audiences, program delivery, challenges, and funding sources.

In an effort to assess the performance of booster seats in real-world crashes and laboratory tests, the agency is conducting a detailed review of crash and test data. Again, the TREAD Act directs the agency to consider the public's views on the use, effectiveness, and perceived advantages and disadvantages of booster seats, specifically belt positioning boosters versus lap/shoulder belts alone. Therefore, NHTSA is seeking input from the general public, child safety advocates, child passenger safety experts, academia, law enforcement personnel, medical experts, and child seat and vehicle manufacturers regarding booster seats. Comments should consist of, but are not limited to, results on booster seat use, effectiveness, advantages and disadvantages from special studies, focus group studies, real-world crash data and laboratory tests and results. In addition, we offer the following questions for consideration:

Use: The usage rate for booster seats by children who have outgrown their convertible/forward-facing child safety restraints is very low (below 10 percent). Survey data show that these children often use safety belts alone instead or ride totally unrestrained.

1. Study results presented at the AAAM booster seat conference indicated that booster seat usage rates varied geographically, ranging from approximately 6 to 14 percent. These rates are very low. Considering the fact that belt positioning boosters have only entered the market within the last 5 to 6 years, what are the possible reasons that their usage rates are so low? Are there any additional studies of booster seat use that were not presented at the AAAM conference?

2. Are parents confused as to what size/weight children should be in booster seats? Are Agency guidelines regarding children 4 to 8 years old, 40 to 80 pounds, or less than 57 inches confusing to the parents?

3. The TREAD Act directs the agency to move forward aggressively to educate the public on booster seats in an effort to increase usage. Once parents/caregivers are educated, are there adequate varieties of booster seats available in the marketplace for the various size children and types of vehicle seats? Are there adequate varieties of booster seats for various types of safety belt configurations (i.e., lap/shoulder versus lap belt only)?

4. What are parents' perceptions of booster seats compared to convertible/forward-facing child safety seats with regard to ease of use, comfort and convenience, safety, acceptance by children and other factors?

5. Are they as safe as convertible/forward-facing child safety seats, based on any comparative test and evaluation data?

Effectiveness: Given that the usage rate of booster seats is so low, the Agency has to evaluate the effectiveness of these devices based on the information it is able to gather through its own research and public comments obtained. To facilitate this task, we offer the following points to focus your comments:

1. The agency does not have enough crash data with booster seats available in its files to make a reliable estimate of the effectiveness of booster seats at this time. Based on analytical estimates, the agency currently believes that belt-positioning booster seats would provide children in the 4- to 8-year-old age group about 6 percentage points greater effectiveness than lap/shoulder belts provide adults. The following is our evaluation of the effectiveness of restraints in the back seat using 1988 to 1997 data from the Fatality Analysis Reporting System (FARS). The results are quite interesting and open for discussion of the effectiveness of belt positioning booster seats.

Children 5 to 8 years old in the back seat:

Effectiveness of lap belts = 30%

Effectiveness of lap/shoulder belts = 48%

Children 9 to 14 years old in the back seat:

Effectiveness of lap belts = 41%

Effectiveness of lap/shoulder belts = 54%

Rear seat occupants 5 to 100 years old in the back seat:

Effectiveness of lap/shoulder belts = 44%

These data indicate a significant improvement in effectiveness between lap belts only and lap/shoulder belts for children in the age group of 5 to 8 years. Therefore, if a parent determines that the shoulder belt fits properly and places it behind the child's back, the result is a lap belt with the lower effectiveness of 30 percent, rather than the lap/shoulder belt with 48 percent effectiveness. Is it valid to assume that an approximate measure for the effectiveness of a belt positioning booster seat would be the difference between the 48 percent effectiveness for 5 to 8 year olds in a lap/shoulder belt and the 54 percent effectiveness for 9 to 14 year olds in a lap/shoulder belt? This is based on the assumption that there could be a 6 percentage point difference in effectiveness by improving belt fit by using a booster seat. That is, boosting the child up improves the fit of the lap belt portion and moves the shoulder belt away from the face and neck area.

2. Are there any available data or reports on the effectiveness of belt positioning booster seats based on real-world crash data?

3. What is the perceived effectiveness of belt positioning boosters by parents?

Advantages/Disadvantages

1. For those parents who use—versus those who do not use—booster seats, what are some of the perceived advantages and disadvantages of belt positioning boosters used with an adult lap/shoulder belt when compared to the use of adult lap/shoulder belt alone?

2. Are there any real-world data and/or laboratory test data to support any advantages and/or disadvantages between the two types of restraint systems?

While these questions are not all inclusive in identifying the issues raised in this Notice, they provide some insight.

Again, we anticipate that your comments will provide some insight into the public views and perceptions regarding the use of booster seats, specifically belt positioning booster seats. Your response to this Notice will help the Agency in determining its future course of action with respect to child booster seats. Interested persons are invited to submit comments on this Notice. All written comments must be in English. Comments must not exceed 15 pages in length, but necessary attachments may be appended to these submissions without regard to the 15-page limit (49 CFR 553.21). This limitation is intended to encourage commenters to detail their primary arguments in a concise fashion.

Comments to applicable, related safety recommendations proposed by NTSB, AAAM, and Blue Ribbon Panel II are welcomed. Further information on booster seats can be obtained by going to the NHTSA Web site at www.nhtsa.dot.gov.

How Do I Prepare and Submit Comments?

Your comments must be written and in English. To ensure that your comments are correctly filed in the Docket, the Docket number (NHTSA-2001-10359) must be included in your comments. Submit all written comments to the Docket Management at the above address.

How Can I Be Sure That My Comments Were Received?

If you wish Docket Management to notify you upon its receipt of your comments, enclose a self-addressed, stamped postcard in the envelope containing your comments. Upon receiving your comments, Docket Management will return the postcard by mail.

How Do I Submit Confidential Business Information?

If comments contain any materials that are claimed to be confidential business information, these materials must be submitted in a separate enclosure envelope marked confidential to the Office of Chief Counsel, NCC-30, at 400 Seventh Street, SW., Room 5219, Washington, DC 20590. In accordance with the provisions of the Agency's regulations concerning confidential business information (49 CFR part 512) commenters should identify the particular portions of their submissions for which they claim confidentiality (49 CFR 512.4(a)(2) and (3)), and they should stamp or mark the word “confidential,” or some other term that clearly indicates the presence of information claimed to be confidential, on the top of each page that contains information claimed to be confidential (49 CFR 512.4(a)(1)). Commenters also should include with their submissions a certification stating that they (or their representatives) have made a diligent inquiry to ascertain that the submitted information has not been disclosed or otherwise been made public (49 CFR 512.4(e)) and also information supporting their claim for confidential treatment (49 CFR 512.4(b)(3)). The supporting information should, among other things, inform the agency of the period of time for which confidential treatment is being requested (49 CFR 512.4(b)(3)(ix)) and describe the particular harm that would result from disclosure (49 CFR 512.4(b)(3)(vi)).

In addition, if a submission contains information that is claimed to be entitled to confidential treatment, commenters should submit directly to (Linda McCray at the above address) one copy of the submission in its entirety (including the portions claimed to be confidential) and also one copy of a “public version” of the submission, from which portions claimed to be confidential have been redacted (49 CFR 512.4(a)(4)).

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, S.W., Washington, DC, from 9:00 a.m. to 5:00 p.m., Monday through Friday.

You may also view the comments on the Internet by taking the following steps:

1. Go to the Docket Management System (DMS) Web page of the Department of Transportation (http://dms.dot.gov).

2. On that page, click on “search.”

3. On the next page ((http://dms.dot.gov/search/) type in the last five digits of the Docket number shown at the beginning of this document (i.e., 10359). Click on “search.”

4. On the next page, which contains Docket summary information for the Docket you selected, click on the desired comments. You may also download the comments.

Authority: 49 U.S.C. 30111, 30117, 30168; delegation of authority at 49 CFR 1.50 and 501.8.

Issued on: August 10, 2001.
Raymond P. Owings,
Associate Administrator for Research and Development.

[FR Doc. 01-20633 Filed 8-15-01; 8:45 am]

BILLING CODE 4910-59-P